ENVIRONMENTAL PROTECTION AGENCY

[EPA-HQ-OPP-2008-0880; FRL-8433-5]

Issuance of an Experimental Use Permit

AGENCY: Environmental Protection Agency (EPA).

ACTION: Notice.

SUMMARY: EPA has granted an experimental use permit (EUP) to the following pesticide applicant listed in Unit II. of this document. An EUP permits use of a pesticide for experimental or research purposes only in accordance with the limitations in the permit.

FOR FURTHER INFORMATION CONTACT: Jeannine Kausch, Biopesticides and Pollution Prevention Division (7511P), Office of Pesticide Programs, Environmental Protection Agency, 1200 Pennsylvania Ave., NW., Washington, DC 20460-0001; telephone number: (703) 347-8920; e-mail address: kausch.jeannine@epa.gov.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the person listed under FOR FURTHER INFORMATION CONTACT.

B. How Can I Get Copies of this Document and Other Related Information?

1. Docket. EPA has established a docket for this action under docket identification (ID) number EPA-HQ-OPP-2008-0880. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. EUP

EPA has issued the following EUP:

85004-EUP-1. Issuance. Pasteuria Bioscience, Incorporated, 12085 Research Dr., Suite 185, Alachua, FL 32615 (Authorized Agent: MacIntosh and Associates, Incorporated, 1203 Hartford Ave., Saint Paul, MN 55116-1622). This EUP allows the use of 59,675 pounds of formulated product (3,272.5 pounds of the nematicidal active ingredient, Pasteuria usgae) on 385 acres of strawberries and turf to evaluate control of the sting nematode (Belonolaimus longicaudatus). The program is authorized only in the States of Alabama, Florida, Georgia, Mississippi, and North Carolina. The EUP is effective from August 12, 2009 to August 31, 2010.

Authority: 7 U.S.C. 136c.

List of Subjects

Environmental protection, Experimental use permits.

Dated: August 20, 2009.
Sheryl K. Reilly,
Acting Director, Biopesticides and Pollution Prevention Division, Office of Pesticide Programs.

[FR Doc. E9-20716 Filed 8-26-09; 8:45 am]

BILLING CODE 6560-50-S